DEPARTMENT OF COMMERCE

National Oceanic and Atmospheric Administration

RIN 0648-XD364

New England Fishery Management Council; Public Meeting

AGENCY: National Marine Fisheries Service (NMFS), National Oceanic and Atmospheric Administration (NOAA), Commerce.

ACTION: Notice; public meeting.

SUMMARY: The New England Fishery Management Council's (Council) Risk Policy Working Group will meet to consider actions affecting New England fisheries in the exclusive economic zone (EEZ).

DATES: The meeting will be held on Tuesday, July 29, 2014 at 10 a.m.

ADDRESSES: The meeting will be held at the Hampton Inn & Suites, 2100 Post Road, Warwick, RI; telephone: (401) 739-8888.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The items of discussion in the committee and advisory panel's agenda are: The Risk Policy Working Group will continue the development of a risk policy to serve as guidance for ABC (acceptable biological catch) control rules and annual catch limits (ACLs) for Council-managed species. They will develop a Risk Policy Statement, to be reviewed by the Council's Scientific and Statistical Committee (SSC) in August and approved by the Council at its September 2014 meeting. Also on the agenda will be the review and discussion on baseline conditions related to overfishing definitions, ABC control rules, and harvest control rules in Council-managed FMPs. They will discuss the next steps for applying the Risk Policy Statement across Council-managed FMPs and address other business as necessary.

Although non-emergency issues not contained in this agenda may be discussed, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Thomas A. Nies (see ADDRESSES) at least 5 days prior to the meeting date.

Authority: 16 U.S.C. 1801 et seq.

Dated: July 8, 2014.
Tracey L. Thompson,
Acting Deputy Director, Office of Sustainable Fisheries, National Marine Fisheries Service.

[FR Doc. 2014-16214 Filed 7-10-14; 8:45 am]

BILLING CODE 3510-22-P